FEDERAL TRADE COMMISSION

Granting of Request for Early Termination of the Waiting Period Under The Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
[May 1, 2012 thru May 31, 2012]
05/01/2012 | 20120144 | G | Kinder Morgan, Inc.; El Paso Corporation; Kinder Morgan, Inc.
05/02/2012 | 20120713 | G | Robert C. Dart; Vestar Capital Partners IV, L.P.; Robert C. Dart.
| 20120767 | G | New Mountain Partners III, L.P.; American Wholesale Insurance Holding Company, LLC; New Mountain Partners III, L.P.
05/04/2012 | 20120762 | G | Michael G. Rubin; Dreams, Inc.; Michael G. Rubin.
| 20120770 | G | J.P. Morgan Digital Growth Fund L.P.; Conduit Ltd.; J.P. Morgan Digital Growth Fund L.P.
| 20120771 | G | Electricite de France S.A.; Exelon Corporation; Electricite de France S.A.
| 20120777 | G | Lee Equity Partners Fund Summer MV LP; The Edelman Financial Group Inc.; Lee Equity Partners Fund Summer MV LP.
| 20120782 | G | Freepoint Commodities Holdings LLC; JPMorgan Chase & Co.; Freepoint Commodities Holdings LLC.
| 20120784 | G | Racecar Holding, LLC; Knology, Inc.; Racecar Holding, LLC.
05/07/2012 | 20120781 | G | GTCR Fund X/A LP; Warburg Pincus Private Equity VIII, L.P.; GTCR Fund X/A LP.
05/08/2012 | 20120384 | G | Nuance Communications, Inc.; Vlingo Corporation; Nuance Communications, Inc.
| 20120757 | G | Encore Capital Group, Inc.; Cerberus Partners. L.P.; Encore Capital Group, Inc.
| 20120766 | G | ConAgra Foods, Inc.; Odom's Tennessee Pride Sausage, Inc.; ConAgra Foods, Inc.
| 20120775 | G | Silver Lake Sumeru Fund, L.P.; MedSeelc, Inc.; Silver Lake Sumeru Fund, L.P.
05/09/2012 | 20120776 | G | Madison Dearborn Capital Partners VI-A, L.P.; TRM Holdings Corporation; Madison Dearborn Capital Partners VI-A, L.P.
05/10/2012 | 20120774 | G | Liberty Media Corporation; Live Nation Entertainment, Inc.; Liberty Media Corporation.
| 20120807 | G | Kia Motors Corporation; Hyundai Motor Company; Kia Motors Corporation.
05/11/2012 | 20120625 | G | Sprouts Farmers Markets, LLC; Michael Gilliland; Sprouts Farmers Markets, LLC.
05/14/2012 | 20120742 | G | Corvex Master Fund LP; Corrections Corporation of America; Corvex Master Fund LP.
| 20120795 | G | Tom Benson; NBA Development League Holdings. LLC; Tom Benson.
| 20120796 | G | Quad-C Partners VII, L.P.; Steven R. Matzkin, D.D.S.; Quad-C Partners VII, L.P.
| 20120798 | G | AZZ incorporated; Aron Seiken; AZZ incorporated.
| 20120800 | G | Intuit Inc.; Demandforce, Inc.; Intuit Inc.
| 20120801 | G | Kinder Morgan Energy Partners, L.P.; KKR 2006 Fund (Energy IV) L.P.; Kinder Morgan Energy Partners, L.P.
| 20120805 | G | Omnicell, Inc.; Excellere Capital Fund, L.P.; Omnicell, Inc.
| 20120806 | G | CenterPoint Energy, Inc.; Encana Corporation; CenterPoint Energy, Inc.
05/15/2012 | 20120786 | G | Ingram Industries Inc.; GS Maritime Holding LLC; Ingram Industries Inc.
| 20120799 | G | Toshiba Corporation; International Business Machines Corporation; Toshiba Corporation.
| 20120828 | G | Sociedade de Gestao e Financiamentos, S.G.P.S., S.A.; Brisa Auto-Estradas de Portugal, S.A.; Sociedade de Gestao e Financiamentos, S.G.P.S., S.A.
05/16/2012 | 20120594 | G | UnitedHealth Group, Inc.; Preferred Care Partners Holding Corp.; UnitedHealth Group, Inc.
| 20120790 | G | Alfa, S.A.B. de C.V.; J.L. French Automotive Castings, Inc.; Alfa, S.A.B. de C.V.
05/17/2012 | 20120809 | G | Affiliated Managers Group, Inc.; Donald A. Yacktman; Affiliated Managers Group, Inc.
05/18/2012 | 20120810 | G | Alix Blocker, Inc.; H&F Astro MV, L.P.; Alix Blocker, Inc.
| 20120813 | G | Centerbridge Capital Partners II, L.P.; P.F. Changs China Bistro, Inc.; Centerbridge Capital Partners II, L.P.
| 20120818 | G | Valeant Pharmaceuticals International, Inc.; Raymond J. and Maria Francis; Valeant Pharmaceuticals International, Inc.
| 20120819 | G | Microchip Technology Incorporated; Standard Microsystems Corporation; Microchip Technology Incorporated.
| 20120820 | G | Mark West Energy Partners, L.P.; Energy Spectrum Partners V LP; Mark West Energy Partners, L.P.
| 20120826 | G | Open Text Corporation; EasyLink Services International Corporation; Open Text Corporation.
05/21/2012 | 20120769 | G | Thoma Bravo Fund IX, L.P.; WestView Capital Partners, L.P.; Thoma Bravo Fund IX, L.P.
| 20120803 | G | The Veritas Capital Fund IV, L.P.; 2003 TIL Settlement, c/o The Woodbridge Company Limited; The Veritas Capital Fund IV, L.P.
| 20120815 | G | Trimble Navigation Limited; Google, Inc.; Trimble Navigation Limited.
| 20120824 | G | Warburg Pincus Private Equity X, L.P.; Quad Partners III-ALP; Warburg Pincus Private Equity X, L.P.
| 20120827 | G | TrustHouse Services Holdings, LLC; Valley Services, Inc.; TrustHouse Services Holdings, LLC.
05/22/2012 | 20120791 | G | Beam Inc.; Paul G. Coulombe; Beam Inc.
| 20120814 | G | Ascena Retail Group, Inc.; Charming Shoppes, Inc.; Ascena Retail Group, Inc.
| 20120839 | G | Ixia; Anue Systems, Inc.; Ixia.
05/24/2012 | 20120780 | G | National Oilwell Varco, Inc.; Schlumberger N.V.; National Oilwell Varco, Inc.
| 20120816 | G | Catterton Partners VI, L.P.; Catterton Partners IV, L.P.; Catterton Partners VI, L.P.
| 20120817 | G | Catterton Partners VI, L.P.; Ferrara Pan Candy Company, Inc.; Catterton Partners VI, L.P.
| 20120822 | G | Jazz Pharmaceuticals Public Limited Company; EUSA Pharma Inc.; Jazz Pharmaceuticals Public Limited Company.
| 20120825 | G | Clayton, Dubilier & Rice Fund VIII, L.P.; BlueScope Steel Ltd.; Clayton, Dubilier & Rice Fund VIII, L.P.
| 20120831 | G | Towers Watson & Co.; Extend Health, Inc.; Towers Watson & Co.
05/25/2012 | 20120833 | G | International Business Machines Corporation; Tealeaf Technology, Inc.; International Business Machines Corporation.
| 20120835 | G | Kratos Defense & Security Solutions, Inc.; Amy A. & Michel M. Fournier; Kratos Defense & Security Solutions, Inc.
| 20120836 | G | Danaher Corporation; VSS Monitoring, Inc.; Danaher Corporation.
| 20120843 | G | Akira Holding Foundation; Imperial Sugar Company; Akira Holding Foundation.
| 20120845 | G | Delta Air Lines, Inc.; Phillips 66; Delta Air Lines, Inc.
| 20120849 | G | Energy Transfer Equity, L.P.; Sunoco, Inc.; Energy Transfer Equity, L.P.
05/29/2012 | 20120834 | G | Centre Capital Investors V, L.P.; FKA Distributing Co.; Centre Capital Investors V, L.P.
| 20120838 | G | Wells Fargo & Company; Merlin Group Holdings, LLC; Wells Fargo & Company.
| 20120842 | G | H.I.G. Capital Partners IV, L.P.; Madhavan K. Nayar; H.I.G. Capital Partners IV, L.P.
| 20120851 | G | Crosstex Energy, L.P.; Energy Equity Partners, L.P.; Crosstex Energy, L.P.
| 20120852 | G | OCP Trust; Golfsmith International Holdings, Inc.; OCP Trust.
| 20120853 | G | Nucor Corporation; ArcelorMittal S.A.; Nucor Corporation.
| 20120854 | G | General Dynamics Corporation; IPW Holdings, Inc.; General Dynamics Corporation.
| 20120857 | G | The Resolute Fund II, L.P.; Babcock International Group Inc.; The Resolute Fund H, L.P.
| 20120871 | G | Ajay Piramal; Providence Equity Partners V L.P.; Ajay Piramal.
05/30/2012 | 20120861 | G | Agilent Technologies, Inc.; EQT V (No.1) Limited Partnership; Agilent Technologies, Inc.
05/31/2012 | 20120812 | G | Seagate Technology plc; Philippe Spruch; Seagate Technology plc.

FOR FURTHER INFORMATION CONTACT:

Renee Chapman, Contact Representative, or

Theresa Kingsberry, Legal Assistant,

Federal Trade Commission, Premerger Notification Office, Bureau of Competition, Room H-303, Washington, DC 20580, (202) 326-3100.

By Direction of the Commission.
Donald S. Clark,
Secretary.

[FR Doc. 2012-14256 Filed 6-12-12; 8:45 am]

BILLING CODE 6750-01-M